DEPARTMENT OF TRANSPORTATION

Federal Aviation Administration

14 CFR Part 39

[Docket No. 99-NM-252-AD; Amendment 39-11677; AD 99-13-08 R1]

RIN 2120-AA64

Airworthiness Directives; Lockheed Model L-1011-385 Series Airplanes

AGENCY: Federal Aviation Administration, DOT.

ACTION: Final rule.

SUMMARY: This amendment revises an existing airworthiness directive (AD), applicable to all Lockheed Model L-1011-385 series airplanes, that currently requires inspections to detect cracking and other discrepancies of certain web-to-cap fasteners of the rear spar between inner wing station (IWS) 310 and IWS 343, and of the web area around those fasteners; various follow-on actions; and modification of the web-to-cap fastener holes of the rear spar between IWS 299 and IWS 343, which, when accomplished, defers the initiation of the inspections for a certain period of time. The actions specified by that AD are intended to prevent fatigue cracking in the web of the rear spar of the wing, which could result in failure of the rear spar of the wing and consequent fuel spillage. This amendment, for certain airplanes, extends the compliance time for the modification of the web-to-cap fastener holes, and eliminates references to modification of the outboard spar.

DATES: Effective May 22, 2000.

The incorporation by reference of Lockheed Service Bulletin 093-57-218, dated April 11, 1996, was approved previously by the Director of the Federal Register as of June 27, 1996 (61 FR 29642, June 12, 1996).

The incorporation by reference of certain other publications, as listed in the regulations, was approved previously by the Director of the Federal Register as of July 28, 1999 (64 FR 33386, June 23, 1999).

ADDRESSES: The service information referenced in this AD may be obtained from Lockheed Martin Aircraft & Logistics Center, 120 Orion Street, Greenville, South Carolina 29605. This information may be examined at the Federal Aviation Administration (FAA), Transport Airplane Directorate, Rules Docket, 1601 Lind Avenue, SW., Renton, Washington; or at the FAA, Small Airplane Directorate, Atlanta Aircraft Certification Office, One Crown Center, 1895 Phoenix Boulevard, suite 450, Atlanta, Georgia; or at the Office of the Federal Register, 800 North Capitol Street, NW., suite 700, Washington, DC.

FOR FURTHER INFORMATION CONTACT: Thomas Peters, Aerospace Engineer, Systems and Flight Test Branch, ACE-116A, FAA, Small Airplane Directorate, Atlanta Aircraft Certification Office, One Crown Center, 1895 Phoenix Boulevard, Suite 450, Atlanta, Georgia 30337-2748; telephone (770) 703-6063; fax (770) 703-6097.

SUPPLEMENTARY INFORMATION: A proposal to amend part 39 of the Federal Aviation Regulations (14 CFR part 39) by revising AD 99-13-08, amendment 39-11202 (64 FR 33386, June 23, 1999), which is applicable to all Lockheed Model L-1011-385 series airplanes, was published in the Federal Register on November 8, 1999 (64 FR 60750). The action proposed to continue to require inspections to detect cracking and other discrepancies of certain web-to-cap fasteners of the rear spar between inner wing station (IWS) 310 and IWS 343, and of the web area around those fasteners; and various follow-on actions. The action also proposed, for certain airplanes, to extend the compliance time for the modification of the web-to-cap fastener holes, and eliminate references to modification of the outboard spar.

Comments

Interested persons have been afforded an opportunity to participate in the making of this amendment. Due consideration has been given to the single comment received.

The commenter supports the proposed rule.

Conclusion

After careful review of the available data, including the comment noted above, the FAA has determined that air safety and the public interest require the adoption of the rule as proposed.

Cost Impact

There are approximately 235 Lockheed Model L-1011-385 series airplanes of the affected design in the worldwide fleet. The FAA estimates that 117 airplanes of U.S. registry will be affected by this AD. The requirements of this AD will not add any new additional economic burden on affected operators. Also, because the existing AD states the cost impact only for the required modification and not for the acceptable alternatives that were provided for certain airplanes, no change to the cost impact information is necessary. The current costs associated with this amendment are reiterated in their entirety (as follows) for the convenience of affected operators:

The inspections that are currently required by AD 99-13-08 take approximately 13 work hours per airplane to accomplish, at an average labor rate of $60 per work hour. Based on these figures, the cost impact of the currently required inspections on U.S. operators is estimated to be $91,260, or $780 per airplane, per inspection cycle.

The modification that is currently required by AD 99-13-08 takes approximately 100 work hours per airplane to accomplish, at an average labor rate of $60 per work hour. Based on these figures, the cost impact of the currently required modification on U.S. operators is estimated to be $702,000, or $6,000 per airplane.

The cost impact figures discussed above are based on assumptions that no operator has yet accomplished any of the requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11202 (64 FR 33386, June 23, 1999), and by adding a new airworthiness directive (AD), amendment 39-11677, to read as follows:

99-13-08 R1 Lockheed: Amendment 39-11677. Docket 99-NM-252-AD. Revises AD 99-13-08, Amendment 39-11202.

Applicability: All Model Model L-1011-385 series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (h)(1) of this AD. The request should include an assessment of the effect of the modification, alteration, or repair on the unsafe condition addressed by this AD; and, if the unsafe condition has not been eliminated, the request should include specific proposed actions to address it.

Compliance: Required as indicated, unless accomplished previously.

To prevent fatigue cracking in the web of the rear spar of the wing, which could result in failure of the rear spar of the wing and consequent fuel spillage, accomplish the following:

Restatement of Actions Required by AD 99-13-08, Amendment 39-11202

Inspections

(a) Perform a visual inspection to detect signs of cracking and other discrepancies (i.e., corrosion, fastener looseness, nicks, scratches, or other surface damage) of the web-to-cap fasteners of the rear spar between inner wing station (IWS) 310 and IWS 343, as specified in Figure 2 of Lockheed Service Bulletin 093-57-218, dated April 11, 1996, or Revision 1, dated September 9, 1996; and of the web area around those fasteners; in accordance with Part I of the Accomplishment Instructions of that service bulletin. Perform the inspection at the applicable time specified in paragraph (a)(1) or (a)(2) of this AD.

(1) Except as provided by paragraph (a)(2) of this AD: Perform the initial inspection prior to the accumulation of the number of landings specified as the “inspection threshold” in Table I of Lockheed Service Bulletin 093-57-218, dated April 11, 1996, or Revision 1, dated September 9, 1996, or within 10 days after June 27, 1996 (the effective date of AD 96-12-24, amendment 39-9667), whichever occurs later.

(2) For airplanes on which the wing rear spar was modified prior to June 27, 1996, in accordance with one of the Lockheed service bulletins listed in paragraph (a)(2)(ii) of this AD, accomplish the inspection as follows:

(i) Perform the initial inspection prior to the accumulation of the number of landings specified as the “inspection threshold” in Table I of Lockheed Service Bulletin 093-57-218, dated April 11, 1996, or Revision 1, dated September 9, 1996, calculated from the time the wing rear spar was modified (rather than from the date of manufacture of the airplane), or within 10 days after June 27, 1996, whichever occurs later.

(ii) This paragraph applies to airplanes on which the wing rear spar has been modified in accordance with one of the following service bulletins:

(A) Lockheed Service Bulletin 093-57-184, Revision 6, dated October 28, 1991, or Revision 7, dated December 6, 1994; or

(B) Lockheed Service Bulletin 093-57-196, Revision 5, dated October 28, 1991, or Revision 6, dated December 6, 1994; or

(C) Lockheed Service Bulletin 093-57-203, Revision 3, dated October 28, 1991, or Revision 4, dated March 27, 1995; or

(D) Lockheed Service Bulletin 093-57-215, dated April 11, 1996.

Repetitive Inspections

(b) If no sign of cracking or other discrepancy is found during the inspection required by paragraph (a) of this AD, repeat that inspection thereafter at intervals not to exceed the number of landings specified as the “repeat visual inspection interval” in Table I of Lockheed Service Bulletin 093-57-218, dated April 11, 1996, or Revision 1, dated September 9, 1996.

Corrective Actions

(c) If any sign of cracking is found during an inspection required by paragraph (a) or (b) of this AD, prior to further flight, perform either eddy current surface scan inspections, or bolt hole eddy current inspections, as appropriate, to confirm cracking, in accordance with Lockheed Service Bulletin 093-57-218, dated April 11, 1996, or Revision 1, dated September 9, 1996.

(1) If no cracking is confirmed, repeat the inspection specified in paragraph (a) of this AD at intervals not to exceed the number of landings specified as the “repeat visual inspection interval” in Table I of the service bulletin.

(2) If any cracking is confirmed, prior to further flight, repair it in accordance with the service bulletin.

Modification

(d) Except as provided by paragraph (e) or (f) of this AD, as applicable: Prior to the accumulation of the number of landings specified as the threshold in Table 1 of Lockheed Service Bulletin 093-57-218, Revision 1, dated September 9, 1996; or within 12 months after July 28, 1999 (the effective date of AD 99-13-08, amendment 39-11202); whichever occurs later; modify the web-to-cap fastener holes of the rear spar between IWS 299 and IWS 343 in accordance with Part II of the Accomplishment Instructions of Lockheed Service Bulletin 093-57-218, Revision 1, dated September 9, 1996. Within 5,000 landings following accomplishment of the modification, perform the visual inspection required by paragraph (a) of this AD. Thereafter, repeat that inspection at intervals not to exceed the number of landings specified as the “repeat visual inspection interval” in Table I of Lockheed Service Bulletin 093-57-218, Revision 1, dated September 9, 1996.

(e) For Model L-1011-385-3 series airplanes: Accomplishment of the modification specified in paragraph (e)(1) or (e)(2) of this AD, within 12 months after July 28, 1999, constitutes an acceptable alternative to the modification specified in paragraph (d) of this AD.

(1) Modify the upper and lower caps of the rear spar between IWS 228 and IWS 346 in accordance with Part I of the Accomplishment Instructions of Lockheed Service Bulletin 093-57-203, Revision 3, dated October 28, 1991; or Revision 4, dated March 27, 1995. Within 5,000 landings following accomplishment of the modification, perform the visual inspection required by paragraph (a) of this AD. Thereafter, repeat that inspection at intervals not to exceed the number of landings specified as the “repeat visual inspection interval” in Table I of Lockheed Service Bulletin 093-57-218, Revision 1, dated September 9, 1996. Or

(2) Modify the left and right wing rear spars in accordance with the Accomplishment Instructions of Lockheed Service Bulletin 093-57-215, dated April 11, 1996. Within the thresholds specified in Table I of Lockheed Service Bulletin 093-57-218, Revision 1, dated September 9, 1996 (calculated from the date of installation of Lockheed Service Bulletin 093-57-215, dated April 11, 1996), perform the visual inspection required by paragraph (a) of this AD. Thereafter, repeat that inspection at intervals not to exceed the number of landings specified as the “repeat visual inspection interval” in Table I of Lockheed Service Bulletin 093-57-218, Revision 1, dated September 9, 1996.

Note 2: Accomplishment of the modification of the upper and lower caps of the rear spar between IWS 228 and IWS 346, in accordance with the Accomplishment Instructions of Lockheed Service Bulletin 093-57-203, dated July 25, 1988, Revision 1, dated August 11, 1989, or Revision 2, dated January 25, 1991, is considered acceptable for compliance with the modification specified in paragraph (e)(1) of this amendment.

(f) For Model L-1011-385-1 series airplanes: Accomplishment of the modification specified in paragraph (f)(1) or (f)(2) of this AD, within 12 months after July 28, 1999, constitutes an acceptable alternative to the modification specified in paragraph (d) of this AD.

(1) Modify the inboard rear spars in accordance with the Accomplishment Instructions of Lockheed Service Bulletin 093-57-184, Revision 6, dated October 28, 1991; or Revision 7, dated December 6, 1994. Within the thresholds specified in Table I of Lockheed Service Bulletin 093-57-218, Revision 1, dated September 9, 1996 (calculated from the date of installation of Lockheed Service Bulletin 093-57-184, Revision 6, dated October 28, 1991, or Revision 7, dated December 6, 1994), perform the visual inspection required by paragraph (a) of this AD. Thereafter, repeat that inspection at intervals not to exceed the number of landings specified as the “repeat visual inspection interval” in Table I of Lockheed Service Bulletin 093-57-218, Revision 1, dated September 9, 1996. Or

(2) Modify the inboard rear spars in accordance with the Accomplishment Instructions of Lockheed Service Bulletin 093-57-196, Revision 5, dated October 28, 1991; or Revision 6, dated December 6, 1994. Within the thresholds specified in Table I of Lockheed Service Bulletin 093-57-218, Revision 1, dated September 9, 1996 (calculated from the date of installation of Lockheed Service Bulletin 093-57-196, Revision 5, dated October 28, 1991, or Revision 6, dated December 6, 1994), perform the visual inspection required by paragraph (a) of this AD. Thereafter, repeat that inspection at intervals not to exceed the number of landings specified as the “repeat visual inspection interval” in Table I of Lockheed Service Bulletin 093-57-218, Revision 1, dated September 9, 1996.

Note 3: Accomplishment of the modification of the inboard rear spars, in accordance with the Accomplishment Instructions of Lockheed Service Bulletin 093-57-184, Revision 2, dated October 12, 1988; Revision 3, dated August 11, 1989; Revision 4, dated May 16, 1990; or Revision 5, dated May 23, 1990, is considered acceptable for compliance with the modification specified in paragraph (f)(1) of this amendment.

Note 4: Accomplishment of the modification of the inboard rear spars, in accordance with the Accomplishment Instructions of Lockheed Service Bulletin 093-57-196, Revision 1, dated October 25, 1988; Revision 2, dated July 31, 1989; Revision 3, dated March 7, 1990; or Revision 4, dated July 1, 1991, is considered acceptable for compliance with the modification specified in paragraph (f)(2) of this amendment.

(g) If any condition (i.e., number of discrepant fasteners per stiffener bay, or cracking) is identified during the accomplishment of the modification specified in Lockheed Service Bulletin 093-57-218, Revision 1, dated September 9, 1996, and that condition exceeds the limits specified in paragraph B.(3) of Part II of the Accomplishment Instructions of the service bulletin, prior to further flight, repair in accordance with a method approved by the Manager, Atlanta Aircraft Certification Office (ACO), FAA, Small Airplane Directorate.

Alternative Method of Compliance

(h)(1) An alternative method of compliance or adjustment of the compliance time that provides an acceptable level of safety may be used if approved by the Manager, Atlanta ACO. Operators shall submit their requests through an appropriate FAA Principal Maintenance Inspector, who may add comments and then send it to the Manager, Atlanta ACO.

(2) Alternative methods of compliance, approved previously in accordance with AD 96-12-24, amendment 39-9667, or AD 99-13-08, amendment 39-11202, are approved as alternative methods of compliance with paragraph (d) of this AD.

Note 5: Information concerning the existence of approved alternative methods of compliance with this AD, if any, may be obtained from the Atlanta ACO.

Special Flight Permits

(i) Special flight permits may be issued in accordance with sections 21.197 and 21.199 of the Federal Aviation Regulations (14 CFR 21.197 and 21.199) to operate the airplane to a location where the requirements of this AD can be accomplished.

Incorporation by Reference

(j) Except as provided by paragraph (g) of this AD, the actions shall be done in accordance with the following service bulletins, as applicable: Lockheed Service Bulletin 093-57-184, Revision 6, dated October 28, 1991; or Lockheed Service Bulletin 093-57-184, Revision 7, dated December 6, 1994; Lockheed Service Bulletin 093-57-196, Revision 5, dated October 28, 1991; or Lockheed Service Bulletin 093-57-196, Revision 6, dated December 6, 1994; Lockheed Service Bulletin 093-57-203, Revision 3, dated October 28, 1991; or Lockheed Service Bulletin 093-57-203, Revision 4, dated March 27, 1995; Lockheed Service Bulletin 093-57-215, dated April 11, 1996; and Lockheed Service Bulletin 093-57-218, dated April 11, 1996; or Lockheed Service Bulletin 093-57-218, Revision 1, dated September 9, 1996.

(1) The incorporation by reference of Lockheed Service Bulletin 093-57-218, dated April 11, 1996, was approved previously by the Director of the Federal Register as of June 27, 1996 (61 FR 29642, June 12, 1996).

(2) The incorporation by reference of the remainder of the service bulletins listed above, was approved previously by the Director of the Federal Register as of July 28, 1999 (64 FR 33386, June 23, 1999).

(3) Copies may be obtained from Lockheed Martin Aircraft & Logistics Center, 120 Orion Street, Greenville, South Carolina 29605. Copies may be inspected at the FAA, Transport Airplane Directorate, 1601 Lind Avenue, SW., Renton, Washington; or at the FAA, Small Airplane Directorate, Atlanta Aircraft Certification Office, One Crown Center, 1895 Phoenix Boulevard, Suite 450, Atlanta, Georgia; or at the Office of the Federal Register, 800 North Capitol Street, NW., suite 700, Washington, DC.

(k) This amendment becomes effective on May 22, 2000.

Issued in Renton, Washington, on April 5, 2000.
Donald L. Riggin,
Acting Manager, Transport Airplane Directorate, Aircraft Certification Service.

[FR Doc. 00-8992 Filed 4-14-00; 8:45 am]

BILLING CODE 4910-13-U